DEPARTMENT OF TRANSPORTATION

National Highway Traffic Safety Administration

[Docket No. NHTSA-2006-26357; Notice 2]

Decision That Nonconforming 1999-2000 Hatty 45 Foot Double-Axle Trailers Are Eligible for Importation

AGENCY: National Highway Traffic Safety Administration, DOT.

ACTION: Notice of decision by National Highway Traffic Safety Administration that nonconforming 1999-2000 Hatty 45 foot double-axle trailers are eligible for importation.

SUMMARY: This document announces a decision by the National Highway Traffic Safety Administration (NHTSA) that certain 1999-2000 Hatty 45 foot double-axle trailers that were not originally manufactured to comply with all applicable Federal motor vehicle safety standards (FMVSS) are eligible for importation into the United States because they have safety features that comply with, or are capable of being altered to comply with, all applicable FMVSS.

DATES: This decision was effective April 19, 2007. The agency notified the petitioner at that time that the petition had been granted. This document provides public notice of that decision.

FOR FURTHER INFORMATION CONTACT: Coleman Sachs, Office of Vehicle Safety Compliance, NHTSA (202-366-3151).

SUPPLEMENTARY INFORMATION:

Background

Under 49 U.S.C. 30141(a)(1)(A), a motor vehicle that was not originally manufactured to conform to all applicable FMVSS shall be refused admission into the United States unless NHTSA has decided that the motor vehicle is substantially similar to a motor vehicle originally manufactured for importation into and sale in the United States, certified under 49 U.S.C. 30115, and of the same model year as the model of the motor vehicle to be compared, and is capable of being readily altered to conform to all applicable FMVSS.

Where there is no substantially similar U.S.-certified motor vehicle, 49 U.S.C. 30141(a)(1)(B) permits a nonconforming motor vehicle to be admitted into the United States if its safety features comply with, or are capable of being altered to comply with, all applicable FMVSS based on destructive test data or such other evidence as NHTSA decides to be adequate.

Petitions for eligibility decisions may be submitted by either manufacturers or importers who have registered with NHTSA pursuant to 49 CFR part 592. As specified in 49 CFR 593.7, NHTSA publishes notice in the Federal Register of each petition that it receives, and affords interested persons an opportunity to comment on the petition. At the close of the comment period, NHTSA decides, on the basis of the petition and any comments that it has received, whether the vehicle is eligible for importation. The agency then publishes this decision in the Federal Register.

Barry Taylor Enterprises of Richmond, California (BTE)(Registered Importer 01-280) petitioned NHTSA to decide whether 1999-2000 Hatty 45 foot double-axle trailers are eligible for importation into the United States. NHTSA published notice of petition on November 21, 2006 (71 FR 67424) to afford an opportunity for public comment. The reader is referred to that notice for a thorough description of the petition.

Comments were received in response to the notice of the petition from ArvinMeritor, Inc., d.b.a. Meritor WABCO (WABCO), the manufacturer of the ABS braking system components installed on the subject vehicles. WABCO stated that the purpose for its comments are; to provide detailed information about the capabilities of the ABS system installed on the subject vehicles and to describe differences between that system and those installed in typical U.S. conforming vehicles regarding the activation signal and control system programming for the lamp check function of the antilock malfunction indicator lamp (required by paragraph S5.2.3.3 of FMVSS No. 121 Air Brake Systems).

In its review of the petition, NHTSA found insufficient data, views, and arguments for it to make a determination as to conformity of the subject vehicles with FMVSS No. 223, Rear Impact Guards and FMVSS No. 224, Rear Impact Protection. As a result, NHTSA requested that BTE provide test data demonstrating that the rear impact guards originally installed on the subject trailers met or were capable of being altered to meet the requirements of FMVSS Nos. 223 and 224. BTE responded by stating that it had been unable to obtain the necessary test documentation. As an alternative to providing the test data, BTE proposed that conformance could be achieved by installing a replacement rear impact guard that was certified by its manufacturer as conforming to all applicable requirements of FMVSS No. 223, provided that it was installed as required by FMVSS No. 224.

NHTSA's Analysis: After reviewing the petition as well as the supplemental information received from both BTE and WABCO, NHTSA determined that the subject vehicles were capable of being altered to conform with all applicable safety standards. However, the agency concluded that the RI must demonstrate, in the conformity statement submitted for any vehicle imported under this eligibility decision, that the following modifications, in addition to those included in the instant petition, have been made:

Standard No. 121 Air Brake Systems: inspection of the vehicles and rewiring and/or reprogramming of the ABS brake control system to ensure that the antilock malfunction indicator lamp functions as required by the standard.

Standard No. 223, Rear Impact Guards: installation of a rear impact guard that is certified as conforming to the requirements of FMVSS No. 223.

Standard No. 224, Rear Impact Protection: installation of a rear impact guard that is certified as conforming to the requirements of FMVSS No. 223 in a manner that meets the requirements of FMVSS No. 224.

Based on these considerations, the agency decided to grant this petition.

Final Decision

Accordingly, on the basis of the foregoing, NHTSA has decided that 1999-2000 Hatty 45 foot double-axle trailers that were not originally manufactured to comply with all applicable FMVSS have safety features that comply with, or are capable of being altered to comply with, all applicable FMVSS.

Vehicle Eligibility Number for Subject Vehicles

The importer of a vehicle admissible under any final decision must indicate on the form HS-7 accompanying entry the appropriate vehicle eligibility number indicating that the vehicle is eligible for entry. VCP-38 is the vehicle eligibility number assigned to vehicles admissible under this notice of final decision.

Authority: 49 U.S.C. 30141(a)(1)(B) and (b)(1); 49 CFR 593.7; delegations of authority at 49 CFR 1.50 and 501.8.

Issued on: October 16, 2007.
Claude H. Harris,
Director, Office of Vehicle Safety Compliance.

[FR Doc. E7-20772 Filed 10-19-07; 8:45 am]

BILLING CODE 4910-59-P